COMMISSION ON REVIEW OF OVERSEAS MILITARY FACILITY STRUCTURE OF THE UNITED STATES

Public Meeting

AGENCY: Commission on Review of Overseas Military Facility Structure of the United States (Overseas Basing Commission (OSBC)).

ACTION: Notice of public meeting.

SUMMARY: This serves as public notice of a meeting of the Commission on the Review of Overseas Military Facility Structure of the United States. The Commission will meet to receive testimony from current military Service Chiefs and Defense Department strategy leaders concerning matters relating to the overseas military facility structure of the United States. The OSBC will receive testimony from two panels. The first panel invitees include the Service Chiefs or their representatives from each of the Military Departments. The second panel invitees include the Under Secretary of Defense for Policy and representatives from the Department of State, Under Secretary for Political Affairs, and Under Secretary for Arms Control and International Security.

DATES: March 1, 2005, at 9:00 a.m., local time.

ADDRESSES: The meeting will be held at the United States Senate, Dirksen Senate Office Building, Room SD138, 1st and C Streets, NE, Washington, DC. Security procedures at the Dirksen Senate Office Building may require inspection of purses, packages, screening of individuals, and presentation of a valid individual identification document. The building is physically accessible to people with disabilities.

FOR FURTHER INFORMATION CONTACT: Mr. Wade Nelson, Public Affairs, at (708) 204-0711.

Public Participation: Members of the general public wishing to inform the Commission may submit their comments in writing to the Commission at the time of the meeting or address inquiries/statements to Overseas Basing Commission 1655 N. Ft Myer Dr., Suite 700 Arlington, VA 22209.

SUPPLEMENTARY INFORMATION: Public Law 108-132, and as amended by Public Law 108-324, established the Commission and charged it to conduct a thorough study and review of matters relating to the military facility structure overseas. The law requires the Commission to submit its report to the President and Congress not later than August 15, 2005, and to include a proposal for an overseas basing strategy to meet current and future DoD missions.

Dated: February 9, 2005.
Patricia J. Walker,
Executive Director, Commission on Review of Overseas Military Facility Structure of the United States.

[FR Doc. 05-3197 Filed 2-17-05; 8:45 am]

BILLING CODE 6820-YK-S